ENVIRONMENTAL PROTECTION AGENCY

[FRL-9258-2]

Science Advisory Board Staff Office; Notification of a Public Meeting of the Clean Air Scientific Advisory Committee (CASAC) Ozone Review Panel

AGENCY: Environmental Protection Agency (EPA).

ACTION: Notice.

SUMMARY: The Environmental Protection Agency (EPA or Agency) Science Advisory Board (SAB) Staff Office announces two public teleconferences of the Clean Air Scientific Advisory Committee (CASAC) Ozone Review Panel for the Reconsideration of the 2008 National Ambient Air Quality Standard (NAAQS).

DATES: The CASAC teleconferences will be held on Friday, February 18, 2011 from 1 p.m. to 5 p.m. (Eastern Time) and on Thursday, March 3, 2011 from 10 a.m. to 1 p.m. (Eastern Time).

ADDRESSES: The teleconferences will take place by phone only.

FOR FURTHER INFORMATION CONTACT: Any member of the public who wants further information concerning the teleconferences may contact Dr. Holly Stallworth, Designated Federal Officer (DFO), EPA Science Advisory Board (1400R), U.S. Environmental Protection Agency, 1300 Pennsylvania Avenue, NW., Washington, DC 20004; via telephone/voice mail (202) 546-2073; fax (202) 565-2098; or e-mail at stallworth.holly@epa.gov. General information concerning the CASAC may be found on the EPA Web site at http://www.epa.gov/casac.

SUPPLEMENTARY INFORMATION: Background: Pursuant to the Federal Advisory Committee Act (FACA), Public Law 92-463 5 U.S.C., App. 2, notice is hereby given that the CASAC Ozone Review Panel will hold two public teleconferences to provide additional advice on the strengths and limitations of the scientific evidence and technical information for EPA's reconsideration of the 2008 Ozone NAAQS. The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel will comply with the provisions of FACA and all appropriate SAB Staff Office procedural policies.

Section 109(d)(1) of the CAA requires that the Agency periodically review and revise, as appropriate, the air quality criteria and the NAAQS for the six “criteria” air pollutants, including Ozone. From 2005 to 2008, the CASAC Ozone Review Panel conducted scientific reviews of EPA's scientific assessments of the health and welfare effects of Ozone and other Photochemical Oxidants. On April 7, 2008 letter, the Panel provided comments on EPA's Final Rule for the National Ambient Air Quality Standards (NAAQS) for Ozone (73 FR 16436). The April 7, 2008 letter (EPA-CASAC-08-009) is one of several CASAC advisory reports provided to EPA to support the 2005-2008 Ozone review). The CASAC reports are available on the CASAC Web site at http://yosemite.epa.gov/sab/sabproduct.nsf/WebReportsbyTopicCASAC!OpenView.

On September 16, 2009, EPA Administrator Lisa Jackson announced her decision to reconsider the March 12, 2008 primary and secondary Ozone NAAQS to ensure they are scientifically sound and protective of public health and the environment. Pursuant to this decision, EPA proposed on January 6, 2009 to set different primary and secondary standards than those set in 2008 to provide requisite protection of public health and welfare, respectively (75 FR 2938-3052; January 19, 2010). Since the proposed standards are based on the scientific record from the 2008 rulemaking, including public comments and CASAC advice, EPA's Office of Air and Radiation requested the Ozone Review Panel that conducted the 2005-2008 review to provide comments on EPA's 2010 proposed Ozone standards. Accordingly, the SAB Staff Office reconvened the Ozone Review Panel to provide advice on the proposed reconsideration of the 2008 Ozone NAAQS. As discussed in 75 FR 1381-1382, this Panel (renamed “Ozone Review Panel for the Reconsideration of the 2008 NAAQS”) held a public teleconference on January 25, 2010. A letter dated February 28, 2010 (EPA-CASAC 10-007), posted at http://yosemite.epa.gov/sab/sabproduct.nsf/610BB57CFAC8A41C852576CF007076BD/$File/EPA-CASAC-10-007-unsigned.pdf, was transmitted to the EPA Administrator providing comment on EPA's proposed reconsideration of the 2008 Ozone standards. The purpose of the February 18, 2011 and March 3, 2011 teleconferences is for this Panel to respond to additional charge questions from EPA regarding reconsideration of the 2008 Ozone NAAQS.

Technical Contacts: Any technical questions concerning EPA's charge questions may be directed to Susan Stone at stone.susan@epa.gov or (919) 541-1146.

Availability of Meeting Materials: The agenda, charge questions and any other meeting materials may be found posted at http://www.epa.gov/casac through the calendar link on the blue navigation bar.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Oral Statements: To be placed on the public speaker list for the February 18, 2011 teleconference, interested parties should notify Dr. Stallworth, DFO, by e-mail no later than February 11, 2011. To be placed on the public speaker list for the March 3, 2011 teleconference, interested parties should notify Dr. Stallworth no later than February 24, 2011. Individuals making oral statements will be limited to five minutes per speaker. Written Statements: Written statements for the meeting should be received in the SAB Staff Office by February 7, 2011 so that the information may be made available to the Panel for its consideration prior to this meeting. Written statements should be supplied to the DFO via e-mail (acceptable file format: Adobe Acrobat PDF, MS Word, WordPerfect, MS PowerPoint, or Rich Text files in IBM-PC/Windows 98/2000/XP format).

Accessibility: For information on access or services for individuals with disabilities, please contact Dr. Stallworth at the phone number or e-mail address noted above, preferably at least ten days prior to the meeting, to give EPA as much time as possible to process your request.

Dated: January 20, 2011.
Anthony Maciorowski,
Deputy Director, EPA Science Advisory Board Staff Office.

[FR Doc. 2011-1664 Filed 1-25-11; 8:45 am]

BILLING CODE 6560-50-P